UNITED STATES POSTAL SERVICE BOARD OF GOVERNORS

Sunshine Act Meeting

TIME AND DATES: 10:30 a.m., Monday, February 5, 2001; 8:30 a.m., Tuesday, February 6, 2001.

PLACE: San Antonio, Texas, at the Plaza San Antonio Marriott Hotel, 555 South Alamo Street, in Hidalgo Ballroom C.

STATUS: February 5 (Closed); February 6 (Open).

MATTERS TO BE CONSIDERED:

Monday, February 5—10:30 a.m. (Closed)

1. Financial Performance.

2. Fiscal Year 2001 Integrated Financial Plan.

3. Preliminary Annual Performance Plan Targets FY 2002.

4. Workforce Planning and Development.

5. Rate and Classification Matters.

6. Compensation Issues.

7. Personnel Matters.

Tuesday, February 6—8:30 a.m. (Open)

1. Minutes of the Previous Meeting, January 8-10, 2001.

2. Remarks of the Postmaster General and CEO.

3. Appointment of Members to Board Committees.

4. Fiscal Year 2000 Comprehensive Statement on Postal Operations.

5. Fiscal Year 2001 Operating Budget.

6. Capital Investment Plan.

7. Fiscal Year 2001 Financing Plan.

8. Quarterly Report on Service Performance.

9. Capital Investment.

a. Los Angeles, California, Mar Vista Station.

10. Report on the Southwest Area and Rio Grande District.

11. Tentative Agenda for the March 5-7, 2001, meeting in Washington, DC.

CONTACT PERSON FOR MORE INFORMATION: David G. Hunter, Secretary of the Board, U.S. Postal Service, 475 L'Enfant Plaza, SW., Washington, DC 20260-1000. Telephone (202) 268-4800.

William T. Johnstone,
Deputy Secretary.

[FR Doc. 01-2675 Filed 1-26-01; 1:48 pm]

BILLING CODE 7710-12-M